DEPARTMENT OF AGRICULTURE

Farm Service Agency

7 CFR Part 761

RIN 0560-AG64

Limitations on the Amount of Farm Service Agency Guaranteed Loans

AGENCY: Farm Service Agency, USDA.

ACTION: Final rule.

SUMMARY: This rule amends the Farm Service Agency's (FSA) regulations by providing that the specific dollar amount of guaranteed loan limits will be increased annually based on an annual index of prices paid by farmers.

DATES: Effective on July 18, 2002.

FOR FURTHER INFORMATION CONTACT: For additional information contact Kathy Zeidler, Senior Loan Officer, USDA, FSA, Farm Loan Programs Loan Making Division, STOP 0522, 1400 Independence Avenue, SW., Washington, DC 20250-0522; telephone (202) 720-5199; e-mail: kathy_zeidler@wdc.usda.gov.

SUPPLEMENTARY INFORMATION:

Executive Order 12866

This rule has been determined to be not significant for purposes of Executive Order 12866 and, therefore, has not been reviewed by the Office of Management and Budget.

Regulatory Flexibility Act

The Farm Service Agency (FSA) certifies that this rule will not have a significant economic effect on a substantial number of small entities and, therefore, is not required to perform a Regulatory Flexibility Analysis as required by the Regulatory Flexibility Act, as amended (5 U.S.C. 601). This rule does not impact the small entities to a greater extent than the large entities.

Environmental Impact Statement

It is the determination of FSA that this action is not a major Federal action significantly affecting the environment. Therefore, in accordance with the National Environmental Policy Act of 1969, Public Law 91-190, and 7 CFR part 1940, subpart G, an Environmental Impact Statement is not required.

Executive Order 12988

This rule has been reviewed in accordance with E.O. 12988, Civil Justice Reform. In accordance with that Executive Order: (1) All State and local laws and regulations that are in conflict with this rule will be preempted; (2) no retroactive effect will be given to this rule; and (3) administrative proceedings in accordance with 7 CFR part 11 must be exhausted before requesting judicial review.

Executive Order 12372

The notice related to 7 CFR part 3015, subpart V (48 FR 29115, June 24, 1983) found the programs and activities within this rule are excluded from the scope of Executive Order 12372, which requires intergovernmental consultation with State and local officials.

Executive Order 13132

It has been determined under section 1(a) of Executive Order 13132, Federalism, that this rule does not have sufficient implications to warrant consultation with the States. The provisions contained in this rule will not have a substantial direct effect on States, or on the relationship between the National Government and the States, or on the distribution of power and responsibilities among various levels of government.

Unfunded Mandates

Title II of the Unfunded Mandates Reform Act of 1995 (UMRA), requires Federal agencies to assess the effects of their regulatory actions on State, local, and tribal governments or the private sector. The rule contains no Federal mandates, as defined by title II of the UMRA, for State, local, and tribal governments or the private sector. Thus, this rule is not subject to sections 202 and 205 of UMRA.

Paperwork Reduction Act

This rule does not contain reporting or record keeping requirements subject to the Paperwork Reduction Act of 1995.

Federal Assistance Programs

These changes affect the following FSA programs as listed in the Catalog of Federal Domestic Assistance:

10.406—Farm Operating Loans

10.407—Farm Ownership Loans

Discussion of the Final Rule

Section 806 of the Omnibus Consolidated and Emergency Supplemental Appropriations Act, 1999 (the 1999 Act) [Pub. L. 105-277] amended the maximum guaranteed loan limits for farm ownership (FO) and farm operating (OL) loans in §§ 305 and 313, respectively, of the Consolidated Farm and Rural Development Act (CONACT) [7 U.S.C. 1925 and 1943, respectively]. The 1999 Act and this rule do not impact the maximum amounts of any other FSA farm loan programs; only guaranteed OL and FO loans are affected.

Prior to the 1999 Act, FSA guaranteed FO loans were limited to a maximum of $300,000 and guaranteed OLs were limited to $400,000. The 1999 Act increased these limits to a maximum of $700,000 per borrower for either guaranteed FO, guaranteed OL or a combination thereof, and requires an annual increase of the $700,000 maximum so that the loan limit keeps pace with inflation in the cost of farm inputs. The 1999 Act also defines the inflation adjustment as the percentage (if any) by which the average of the Prices Paid by Farmers Index (as compiled by the National Agricultural Statistics Service of the Department of Agriculture) for the 12-month period ending on August 31 of the immediately preceding fiscal year exceeds the average of this index for the 12-month period ending on August 31, 1996.

FSA published a final rule on February 12, 1999 (64 FR 7357-7403), revising the maximum guaranteed loan amounts in 7 CFR 762.122 in accordance with the 1999 Act. In accordance with the calculation prescribed in the 1999 Act, the maximum guaranteed loan amount increased to $717,000 effective October 1, 1999, then to $731,000 effective October 1, 2000, and most recently, to $759,000 effective October 1, 2001. These statutorily mandated increases were implemented internally with or without updating the regulation. Another increase is expected for October 1, 2002.

On January 24, 2001, FSA published a final rule (66 FR 7565-7568) that moved the regulations governing FSA guaranteed farm loan maximum dollar amounts from 7 CFR 762.122 to 7 CFR 761.8, and included the maximum amounts effective at that time. This rule will add language stating that the loan limits originally in effect for FY 2000 will be increased each year based on the percentage change in the Index and that the current maximum loan amount and the effective date of the limits will be available at all USDA Service Centers and on the FSA website at http://www.fsa.usda.gov. This change is made to maintain the accuracy of the regulations and provide the public with current loan limitations.

In accordance with 5 U.S.C. 553, the Agency has determined that a notice requesting public comment or a proposed rule is unnecessary for the amendments made in this rule because they are informational enhancements in the regulatory language, rather than substantive revisions to program requirements. Any public notification requirements of 5 U.S.C. 553 will be met by making the maximum loan amounts available at any USDA Service Center nationwide and by listing them on the FSA website at http://www.fsa.usda.gov.

List of Subjects in 7 CFR Part 761

Credit, Agriculture, Loan programs—Agriculture.

Accordingly, 7 CFR part 761 is amended as follows:

PART 761—GENERAL AND ADMINISTRATIVE

1. The authority citation for part 761 continues to read as follows:

Authority: 5 U.S.C. 301, 7 U.S.C. 1989.

2. Amend § 761.8 by revising paragraphs (a) and (b) to read as follows:

§ 761.8 Loan limitations.

(a) Dollar limits. The outstanding principal balances for a farm loan applicant or anyone who will sign the promissory note cannot exceed any of the following:

(1) Farm Ownership loans, Beginning Farmer Down payment loans and Soil and Water loans:

(i) Direct—$200,000;

(ii) Guaranteed—$700,000 (for fiscal year 2000 and increased at the beginning of each fiscal year in accordance with paragraph (b) of this section);

(iii) Any combination of a direct Soil and Water loan, direct Farm Ownership loan, guaranteed Soil and Water loan, and guaranteed Farm Ownership loan—$700,000 (for fiscal year 2000 and increased each fiscal year in accordance with paragraph (b) of this section);

(2) Operating loans:

(i) Direct—$200,000;

(ii) Guaranteed—$700,000 (for fiscal year 2000 and increased each fiscal year in accordance with paragraph (b) of this section);

(iii) Any combination of a direct Operating loan and guaranteed Operating loan—$700,000 (for fiscal year 2000 and increased each fiscal year in accordance with paragraph (b) of this section);

(3) Any combination of guaranteed Farm Ownership loan, guaranteed Soil and Water loan, and guaranteed Operating loan—$700,000 (for fiscal year 2000 and increased each fiscal year in accordance with paragraph (b) of this section);

(4) Any combination of direct Farm Ownership loan, direct Soil and Water loan, direct Operating loan, guaranteed Farm Ownership loan, guaranteed Soil and Water loan, and guaranteed Operating loan—the amount in paragraph (a)(1)(ii) of this section plus $200,000;

(5) Emergency loans—$500,000;

(6) Any combination of direct Farm Ownership loan, direct Soil and Water loan, direct Operating loan, guaranteed Farm Ownership loan, guaranteed Soil and Water loan, guaranteed Operating loan, and Emergency loan—the amount in paragraph (a)(1)(ii) of this section plus $700,000.

(b) The dollar limits of guaranteed loans will be increased each fiscal year based on the percentage change in the Prices Paid by Farmers Index as compiled by the National Agricultural Statistics Service, USDA. The maximum loan limits for the current fiscal year are available in any FSA office and on the FSA website at http://www.fsa.usda.gov.

* * * * *

Signed at Washington, DC, on March 18, 2002.
James R. Little,
Administrator, Farm Service Agency.

[FR Doc. 02-15249 Filed 6-17-02; 8:45 am]

BILLING CODE 3410-05-P